DEPARTMENT OF DEFENSE

Office of the Secretary

Meeting of the President's Commission on Care for America's Returning Wounded Warriors

AGENCY: Department of Defense.

ACTION: Notice.

SUMMARY: Pursuant to Section 10(a), Public Law 92-463, as amended, notice is hereby given of a forthcoming Meeting of the President's Commission on America's Returning Wounded Warriors. The purpose of the Committee meeting is to introduce new members and conduct briefings for the Commissioners. The meeting is open to the public, subject to the availability of space.

Interested persons may submit a written statement for consideration by the Committee and make an oral presentation of such. Persons desiring to make an oral presentation or submit a written statement to the Committee must notify the point of contact listed below no later than 11 April 2007. Oral presentations by members of the public will be permitted only on 14 April at 1 to 2:45 p.m. before the full Committee. Presentations will be limited to 5 minutes. Number of oral presentations to be made will depend on the number of requests received from members of the public. Each person desiring to make an oral presentation must provide the point of contact listed below with one (1) copy of the presentation by 11 April 2007, 5 p.m. and one copy of any material that is intended for distribution at the meeting. Persons submitting a written statement must submit one copy of the statement to the Commission staff by 5 p.m. POC Col Denise Dailey or Adrianne Holloway, toll free 877-599- 2035 or Fax statements (703) 588-2046.

Due to scheduling difficulties the Commission was unable to finalize its agenda in time to publish a Federal Register meeting notice for the 15-calendar days required by 41 CFR 102-3.150(a). Accordingly, the Committee Management Officer for the Department of Defense, pursuant to 41 CFR 102-3.150(b), waives the 15-calendar day notification requirement.

DATES: Saturday, 14 April 2007.

Location: Main Conference Center, National Transportation Safety Board, 429 L'Enfant Plaza, SW., Washington, DC 20594.

FOR FURTHER INFORMATION CONTACT: For Further Information on Submitting Statements Contact:

Col Denise Dailey or Adrianne Holloway, toll free 877-599-2035 or Fax statements (703) 588-2046.

SUPPLEMENTARY INFORMATION: Meeting agenda.

14 April 2007

8:30 a.m.

Welcome Commissioners, Administrative Remarks and Level I Security Training

10 a.m. Public Session

Presentations

The Casualty System

Disability System

12-1 p.m. Lunch

1-2:45 p.m. Public Presentations

Records Transfer

5 p.m. Wrap Up

Not Open to Public

8:30a.m.-10 a.m. Committee Administrative and Security Training.

Date and Times

Note: Exact order may vary.

Dated: April 2, 2007.
L.M. Bynum,
Alternate OSD Federal Register Liaison Officer, DoD.

[FR Doc. 07-1712 Filed 4-5-07; 8:45 am]

BILLING CODE 5001-06-M